DEPARTMENT OF COMMERCE

National Oceanic and Atmospheric Administration

[I.D. 060105A]

Notice of Availability of Draft Stock Assessment Reports

AGENCY: National Marine Fisheries Service (NMFS), National Oceanic and Atmospheric Administration (NOAA), Commerce.

ACTION: Notice of availability; request for comments.

SUMMARY: NMFS reviewed the Alaska, Atlantic, and Pacific regional marine mammal stock assessment reports (SARs) in accordance with the Marine Mammal Protection Act (MMPA). SARs for marine mammals in the Alaska, Atlantic, and Pacific regions were revised according to new information. NMFS solicits public comments on draft 2005 SARs.

DATES: Comments must be received by September 26, 2005.

ADDRESSES: Send comments or requests for copies of reports to: Chief, Marine Mammal Conservation Division, Office of Protected Resources, National Marine Fisheries Service, 1315 East-West Highway, Silver Spring, MD 20910-3226, Attn: Stock Assessments. Comments may also be sent via facsimile (fax) to 301-427-2580 or via email to mmsar.2005@noaa.gov.

Copies of the Pacific Regional SARs may be requested from Cathy Campbell, Southwest Regional Office, NMFS, 501 West Ocean Boulevard, Long Beach, CA 90802-4213.

Copies of the Alaska Regional SARs may be requested from Robyn Angliss, Alaska Fisheries Science Center, NMFS, 7600 Sand Point Way, NE BIN 15700, Seattle, WA 98115-0070.

Copies of the Atlantic and Gulf of Mexico Regional SARs may be requested from Gordon Waring, Northeast Fisheries Science Center, 166 Water St., Woods Hole, MA 02543.

Copies of the Pacific Regional SARs may be requested from Cathy Campbell, Southwest Regional Office, NMFS, 501 West Ocean Boulevard, Long Beach, CA 90802-4213.

FOR FURTHER INFORMATION CONTACT: Tom Eagle, Office of Protected Resources, 301-713-2322, ext. 105, e-mail Tom.Eagle@noaa.gov; Robyn Angliss 206-526-4032, e-mail Robyn.Angliss@noaa.gov, regarding Alaska regional stock assessments; Gordon Waring, 508-495-2311, e-mail Gordon.Waring@noaa.gov, regarding Atlantic regional stock assessments; or Cathy Campbell, 562-280-4060, e-mail Cathy.E.Campbell@noaa.gov, regarding Pacific regional stock assessments.

SUPPLEMENTARY INFORMATION:

Electronic Access

The 2005 draft stock assessment reports are available in electronic form via the Internet at http://www.nmfs.noaa.gov/pr/PR2/Stock_Assessment_Program/sars.html.

Background

Section 117 of the Marine Mammal Protection Act (MMPA) (16 U.S.C. 1361 et seq.) requires NMFS and the U.S. Fish and Wildlife Service (FWS) to prepare stock assessments for each stock of marine mammals occurring in waters under the jurisdiction of the United States. These reports must contain information regarding the distribution and abundance of the stock, population growth rates and trends, estimates of annual human-caused mortality and serious injury from all sources, descriptions of the fisheries with which the stock interacts, and the status of the stock. Initial reports were completed in 1995.

The MMPA requires NMFS and FWS to review the SARs at least annually for strategic stocks and stocks for which significant new information is available, and at least once every 3 years for non-strategic stocks. NMFS and the FWS are required to revise a SAR if the status of the stock has changed or can be more accurately determined. NMFS, in conjunction with the Alaska, Atlantic, and Pacific Scientific Review Groups (SRGs), reviewed the status of marine mammal stocks as required and revised reports in the Alaska, Atlantic, and Pacific regions to incorporate new information. NMFS solicits public comments on the draft 2005 SARs.

SARs for marine mammal stocks in the Alaska and Atlantic regions were updated to include all new information that has become available since the 2003 reports were completed. In the Alaska region, reports for 27 stocks were revised, and nine were not changed. For the Atlantic region, 43 revised reports are available, and 12 SARs were not revised. Reports in the Pacific region were updated with information available since the 2004 SARs were completed. Reports for five Pacific marine mammal stocks were revised, and reports for 55 stocks were not revised.

Alaska Reports

Changes in fishery definitions in the proposed List of Fisheries for 2005 caused minor changes in most of the 36 reports for Alaska stocks because six Federal fisheries in the Alaska region were separated into 22 fisheries (69 FR 70094, December 2, 2004). These reclassifications required fishery-specific mortality levels to be recalculated for stocks incidentally seriously injured or killed in each of the newly-defined fisheries.

The status of the Central North Pacific stock of Pacific white-sided dolphins was changed from non-strategic to strategic. Low-levels of human-caused mortality and serious injury continued; however, the abundance estimate for the stock is now more than 8 years old and no longer used to calculate a Potential Biological Removal (PBR) level.

The Eastern North Pacific stock of transient killer whales was separated into three stocks, a change initiated by NMFS' recognition of AT1 killer whales as a separate stock after reviewing a petition to designate the AT1 group of transient killer whales as a depleted stock under the MMPA (69 FR 31231, June 3, 2004). The remaining transient killer whales in the North Pacific Ocean were divided into two stocks, the Gulf of Alaska, Aleutian Islands, Bering Sea transient stock and the West Coast transient stock. The AT1 transient stock is designated as a strategic stock due to its depleted status under the MMPA, and the other two stocks are non-strategic.

Using estimates based upon surveys of humpback whales in Hawaii, the maximum net productivity rate for both stocks of humpback whales in Alaska (Western North Pacific and Central North Pacific stocks) was estimated to be 7 percent. In addition, the SAR for humpback whales, Central North Pacific stock, was revised to include separate abundance, PBR, and mortality estimates for the southeast Alaska feeding aggregation.

Although neither status was changed, abundance estimates and PBR increased for both stocks of Steller sea lions. The increase in the abundance estimate of the Eastern U.S. stock of Steller sea lions was more than 40 percent.

Declines in counts of northern fur seal pups in the Pribilof Islands began in 1998 and continued through 2004 at an annual rate exceeding 5 percent. The abundance estimate of this stocks, which is derived from pup counts, declined by more than 200,000 individuals to 688,028. Direct human-caused mortality continues to be a small portion of the calculated PBR, and the stock remains identified as strategic due to its designation as depleted under the MMPA.

The point estimate for gray whale abundance declined by more than 9,000 whales since the last SAR update. Some evidence suggests this stock may have reached carrying capacity, and the decline is a response to environmental limitations. Although the 2000/2001 estimate is incomplete because whales continued to migrate after the normal migration period ended in 2001, the 2001/2002 effort observed a more normal migration period and still produced a smaller abundance estimate. There is also concern that the animals may not have migrated as far south as the observer locations during both surveys, such as occurred in 1992/1993.

An initial minimum estimate for fin whale abundance (5,703) is now available. This is actually an estimate of the size of the population west of the Kenai Peninsula as the full range of Alaska fin whales has not been surveyed.

Atlantic Reports

The status of Atlantic short-finned and long-finned pilot whale stocks changed from strategic to non strategic. For stocks in the Atlantic Ocean, many reports were updated to include new abundance estimates derived from an integrated, multi-platform survey in summer 2004 along the coast of the entire eastern seaboard of the U.S.

All of the reports for marine mammals stocks in the northern Gulf of Mexico were updated from the 2003 final SARs to include new abundance or mortality estimates. In addition, information on the status of three stocks of coastal bottlenose dolphins (Eastern Gulf of Mexico, Northern Gulf of Mexico, and Western Gulf of Mexico) was combined into a single report for 2005 (Gulf of Mexico coastal stocks) to reduce duplication of text. The report for bottlenose dolphin, Northern Gulf of Mexico Coastal stocks, showed that the status of each of the three stocks changed from non-strategic to strategic. The abundance and PBR estimates for each stock changed to undefined because the abundance estimates were more than 8 years old and no longer considered reliable, and human-caused mortality and serious injury continued.

Pacific Reports

Among the changes in reports for the Pacific region, only short-finned pilot whales, California/Oregon/Washington stock, changed status. The PBR for this stock was increased from 1.19 to 1.2, and human-caused mortality decreased from 1.2 to 1.0. Consequently, the stock is designated as non-strategic because human-caused mortality is less than the calculated PBR.

The reports for Southern Resident killer whales and Hawaiian monk seals were updated with new abundance estimates. Reports for Eastern North Pacific humpback whales and California harbor seals were updated with new abundance and mortality estimates. The report for false killer whales, Hawaii stock, was updated with a new PBR estimate (reflecting a change in the recovery factor) and new mortality estimates. For this stock, reported human-caused mortality or serious injury was limited only to that occurring in the Exclusive Economic Zone around the Hawaiian archipelago to be consistent with the reported range of the stock (and abundance estimate).

Dated: June 21, 2005.
Donna S. Wieting,
Acting Director, Office of Protected Resources, National Marine Fisheries Service.

[FR Doc. 05-12754 Filed 6-27-05; 8:45 am]

BILLING CODE 3510-22-S